DEPARTMENT OF AGRICULTURE

Forest Service

Prince William Sound Resource Advisory Committee

AGENCY: Forest Service, USDA.

ACTION: Notice of meeting.

SUMMARY: The Prince William Sound Resource Advisory Committee will meet via video conference in four locations (Cordova, Anchorage, Girdwood and Valdez). The committee is meeting as authorized under the Secure Rural Schools and Community Self-Determination Act (Pub. L. 110-343) and in compliance with the Federal Advisory Committee Act. The purpose of the meeting is to review, discuss and select projects to be funded thru the Secure Rural Schools Act.

DATES: The meeting will be held August 20, 2011 starting at 9 a.m.

ADDRESSES: The meeting will be held on video conferencing equipment at the following locations: Chugach National Forest Supervisors Office, 3301 “C” Street, Suite 300, Anchorage, AK; Cordova Ranger District, 612 2nd Street, Cordova, AK; Glacier Ranger District, 145 Forest Station Road, Girdwood, AK; Prince Willam Sound Community College, 303 Lowe Street, Valdez, AK . Written comments should be sent to Teresa Benson P.O. Box 280, Cordova, AK 99574. Comments and questions may also be sent via e-mail to tbenson@fs.fed.us, or via facsimile to (907) 424-7214.

All comments, including names and addresses when provided, are placed in the record and are available for public inspection and copying. The public may inspect comments received at the Cordova Ranger District (612 2nd Street, Cordova, AK) or the Glacier Ranger District (145 Forest Station Road, Girdwood, AK).

FOR FURTHER INFORMATION CONTACT: Teresa Benson, Designated Federal Official, c/o USDA Forest Service, P.O. Box 280, Cordova, Alaska 99574, telephone (907) 424-4742.

SUPPLEMENTARY INFORMATION: The meeting is open to the public. The following business will be conducted: The Prince William Sound Resource Advisory Committee (RAC) will be discussing and voting on proposals that have been received from communities of the Prince William Sound. The proposals that may receive funding would enhance forest ecosystems or restore and improve land health and water quality on the Chugach National Forest and other near-by lands including the communities of Chenega, Cordova, Tatitlek, Valdez and Whittier. The RAC is responsible for approving projects with funds made available from years 2008-2012.

The public is welcome to attend the August 20th RAC meeting. Committee discussion is limited to Forest Service staff and Committee members. However, public input opportunity will be provided and individuals will have the opportunity to address the Committee at that time.

Persons who wish to bring related matters to the attention of the Committee may file written statements with the Committee staff before or after the meeting. Public input sessions will be provided and individuals who made written requests by August 19th will have the opportunity to address the Committee at those sessions.

Dated: July 15, 2011.
Nancy S. O'Brien,
Acting Cordova District Ranger.

[FR Doc. 2011-18940 Filed 7-26-11; 8:45 am]

BILLING CODE 3410-11-P